DEPARTMENT OF COMMERCE

Economic Development Administration

Notice of Petitions by Producing Firms for Determination of Eligibility To Apply for Trade Adjustment Assistance

AGENCY: Economic Development Administration (EDA), DOC.

ACTION: To give all interested parties an opportunity to comment.

Petitions have been accepted for filing on the dates indicated from the firms listed below.

List of Petition Action by Trade Adjustment Assistance for Period January 22, 2005-February 16, 2005
Firm name | Address | Date petition accepted | Product
Northern Technologies Manufacturing Corporation | 1405 Pace Road, Pocahontas, AR 72455 | 1/24/2005 | Automotive and telecommunication parts.
BRIJ Systems, LLC | 700 East 10th Street, North Wichita, KS 67214 | 1/25/2005 | Wire and aircraft parts.
Firland Foundation d.b.a. Firland Workshop | 1700 NE 150th Street, Shoreline, WA 98155 | 1/25/2005 | Airplane parts.
La Puerta Originals, Inc. | 1302 Cerrillos Road, Santa Fe, NM 87505 | 1/25/2005 | Wooden doors, frames, thresholds, and furniture.
Pyramid Plastics, Inc. | 220 West 5th Street, Hope, AR 71802 | 1/25/2005 | Plastic extrusions and coatings, and lacquers and waxes.
Wiederkehr Wine Cellars, Inc. | 3324 Swiss Family Drive, Altus, AR 72821 | 1/25/2005 | Red, white and blush wines.
Don Pedro's Tortillas, Inc. | 4120 North 23rd Street, McAllen, TX 78504 | 1/26/2005 | Bread including tortillas.
Ambec, Inc. | 10330 S. Dolfield, Road, Owings Mills, MD 21117 | 2/2/2005 | Conveyor systems used primarily in the food industry.
Lloyd Industries, Inc. | 3808 North Sullivan Road, Spokane, WA 99216 | 2/4/2004 | Aluminized steel bakeware.
North American Fabricators, LLC | 208 North American Court, Houma, LA 70363 | 2/4/2005 | Marine vessels, i.e. boats.
Carville-National Leather Corporation | 10 Knox Avenue, Johnstown, NY 12095 | 2/5/2005 | Cowhide leather for shoes and garments.
Original Juan Specialty Foods, Inc. | 111 Southwest Boulevard, Kansas City, KS 66103 | 2/5/2005 | Sauces and preparations and snack foods.
Pridecraft, Inc. | 109 Sutton Street, North Andover, MA 01845 | 2/5/2005 | Wood furniture components.
Anzi-Tech Distributions, Inc. | 500 McCormick Drive, Glen Burnie, MD 21061 | 2/9/2005 | Personal computer parts.
Karibe, Inc. | P. O. Box 681, Pittston, PA 18640 | 2/9/2005 | Soft trim accessories for OEM automobiles, i.e. trim and arm rests.
Youghiogheny Opalescent Glass Company, Inc. | P. O. Box 800, Connellsville, PA 15425 | 2/9/2005 | Sheet glass for the stained glass industry.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: February 18, 2005.
Brenda A. Johnson,
National Technical Assistance Specialist, Office of Public Affairs.

[FR Doc. 05-3644 Filed 2-24-05; 8:45 am]

BILLING CODE 3510-24-P